ENVIRONMENTAL PROTECTION AGENCY

[EPA-HQ-OW-2014-0593; FRL 9923-54-OEI]

Information Collection Request Submittal to OMB for Review and Approval; Comment Request; 2015 Drinking Water Infrastructure Needs Survey and Assessment (Reinstatement)

AGENCY: Environmental Protection Agency (EPA).

ACTION: Notice.

SUMMARY: The U.S. Environmental Protection Agency (EPA) has submitted an information collection request (ICR), “2015 Drinking Water Infrastructure Needs Survey and Assessment (Reinstatement)” (EPA ICR No. 2234.04, OMB Control No. 2040-0274) to the Office of Management and Budget (OMB) for review and approval in accordance with the Paperwork Reduction Act (44 U.S.C. 3501 et seq.). This is a request to reinstate a previously discontinued collection. Public comments were previously requested via the Federal Register (79 FR 65209) on November 3, 2014, during a 60-day comment period. This notice allows for an additional 30 days for public comments. A fuller description of the ICR is given in this notice, including the ICR's estimated burden and cost to the public. An Agency may not conduct or sponsor and a person is not required to respond to a collection of information unless it displays a currently valid OMB control number.

DATES: Additional comments may be submitted on or before April 15, 2015.

ADDRESSES: Submit your comments, referencing Docket ID No. EPA-HQ-OW-2014-0593, to (1) EPA online using www.regulations.gov (EPA's preferred method), by email to ow-docket@epa.gov or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Robert Barles, Drinking Water Protection Division (Mail Code 4606M), Office of Ground Water and Drinking Water, Environmental Protection Agency, 1200 Pennsylvania Avenue NW., Washington, DC 20460; telephone number: 202-564-3814; fax number: 202-564-3754; email address: barles.robert@epa.gov.

SUPPLEMENTARY INFORMATION: Supporting documents that explain in detail the information that EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The purpose of this information collection is to identify the infrastructure needs of public water systems for the 20-year period from January 2015 through December 2034. EPA's Office of Ground Water and Drinking Water will collect these data to comply with sections 1452(h) and 1452(i)(4) of the Safe Drinking Water Act (42 U.S.C. 300j-12). The Agency will use a questionnaire to collect capital investment need information from selected community water systems serving more than 3,300 persons. Participation in the survey is voluntary. The data from the questionnaires will provide the Agency with new information from the field to assist in the 2015 update to the Agency's assessment of the nationwide infrastructure needs of public water systems. Also, as mandated by section 1452(a)(1)(D)(ii) of the Safe Drinking Water Act, EPA uses the results of the latest survey to allocate Drinking Water State Revolving Fund (DWSRF) monies to the states. Under the allotment formula, each state receives a grant of the annual DWSRF appropriation in proportion to the state's share of the total national need, with the proviso that each state receives at least one percent of the total funds available.

Form Numbers: 6100-02.

Respondents/affected entities: Community water systems and State Agencies.

Respondent's obligation to respond: Voluntary.

Estimated number of respondents: 2,915 (total).

Frequency of response: One time.

Total estimated burden: 12,398 hours (average per year over three years). Burden is defined at 5 CFR 1320.03(b).

Total estimated cost: $578,001 (average per year over three years), includes $0 annualized capital or operation and maintenance costs.

Changes in Estimates: There is a decrease of 11,000 hours in the total estimated respondent burden compared with the ICR previously approved by OMB. This burden reduction is due to the use of statistical methods such as random sampling and extrapolation, which will reduce the number of respondents.

Courtney Kerwin,
Acting Director, Collection Strategies Division.

[FR Doc. 2015-05936 Filed 3-13-15; 8:45 am]

BILLING CODE 6560-50-P